DEPARTMENT OF AGRICULTURE

Forest Service

Siskiyou County Resource Advisory Committee (RAC)

AGENCY: Forest Service, USDA.

ACTION: Notice of meeting.

SUMMARY: The Siskiyou County Resource Advisory Committee (RAC) will meet on February 18, 2002, in Yreka, California. The purpose of the meeting is organizational and will serve as an orientation to RAC committee members regarding the Secure Rural School and Community Self-Determination Act of 2000. Members will also critic the February 15, 2002 Public Proposal Workshop and the results of the first public outreach.

DATES: The meeting will be held February 18, 2002 from 3 p.m. to 6 p.m.

ADDRESSES: The meeting will be held at the Miners Inn and Convention Center, 122 E. Miner Street, Yreka, California.

FOR FURTHER INFORMATION CONTACT: Heidi Perry, Meeting Coordinator, USDA, Klamath National Forest, 1312 Fairlane Road, Yreka, California 96097, (530) 841-4468; e-mail hperry@fs.fed.us

SUPPLEMENTARY INFORMATION: Agenda items to be covered include: (1) Roles and Responsibilities for Advisory Committees; (2) Critic Public Proposal Workshop; (3) Project Submittal Process; (4) Project Timelines and (5) Public Comment. The meeting is open to the public. Public input opportunity will be provided and individuals will have the opportunity to address the Committee at that time.

Dated: January 29, 2002.
Edward L. Matthews,
Acting Forest Supervisor.

[FR Doc. 02-2923 Filed 2-6-02; 8:45 am]

BILLING CODE 3410-11-M